NUCLEAR REGULATORY COMMISSION

[Docket Nos. 50-280, 50-281, 50-338, and 50-339; NRC-2026-0331]

Virginia Electric and Power Company; North Anna Power Station, Units 1 and 2; Surry Power Station, Units 1 and 2; Withdrawal by Applicant

AGENCY: Nuclear Regulatory Commission.

ACTION: Notice.

SUMMARY: The U.S. Nuclear Regulatory Commission (NRC) is announcing the withdrawal of a license amendment application from Virginia Electric Power Company (the licensee), dated May 16, 2025, for a proposed amendment to North Anna Power Station, Units 1 and 2, and Surry Power Station, Units 1 and 2, License Nos. NPF-4 and NPF-7, and DPR-32 and DPR-37. The proposed amendment would have updated the Main Steam Line Break Alternate Source Term dose consequence analysis for both sites.

DATES: This document was published in the Federal Register on January 22, 2026.

ADDRESSES: Please refer to Docket ID NRC-2026-0331 when contacting the NRC about the availability of information regarding this document. You may obtain publicly available information related to this document using any of the following methods:

• Federal Rulemaking Website: Go to https://www.regulations.gov and search for Docket ID NRC-2026-0331. Address questions about Docket IDs in Regulations.gov to Bridget Curran; telephone: 301-415-1003; email: Bridget.Curran@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: John Klos, Office of Nuclear Reactor Regulation, U.S. Nuclear Regulatory Commission, Washington, DC 20555-0001; telephone: 301-415-5136; email: John.Klos@nrc.gov.

SUPPLEMENTARY INFORMATION:

I. Discussion

On May 16, 2025, the licensee submitted a request to amend licenses NPF-4 and NPF-7, and DPR-32 and DPR-37 for the North Anna Power Station, Units 1 and 2, and the Surry Power Station, Units 1 and 2 (ADAMS Accession No. ML25136A297). Notice of this request was published in the Federal Register on August 6, 2025 (90 FR 37891). The requested license amendment proposed to update the Main Steam Line Break Alternate Source Term dose consequence analysis for both sites. By letter dated October 2, 2025, the licensee withdrew its application and stated it is no longer seeking review and approval of its May 16, 2025, request (ADAMS Accession No. ML25276A031).

Dated: January 20, 2026.
For the Nuclear Regulatory Commission.
Lee Klos,
Project Manager, Plant Licensing Branch II-1, Division of Operating Reactor Licensing, Office of Nuclear Reactor Regulation.

[FR Doc. 2026-01151 Filed 1-21-26; 8:45 am]

BILLING CODE 7590-01-P